DEPARTMENT OF COMMERCE

International Trade Administration

A-570-848

Freshwater Crawfish Tail Meat from the People's Republic of China: Preliminary Notice of Intent to Rescind New Shipper Reviews

AGENCY: Import Administration, International Trade Administration, Department of Commerce.

SUMMARY: The Department of Commerce (“the Department”) is conducting new shipper reviews of the antidumping duty order on freshwater crawfish tail meat from the People's Republic of China (“PRC”) in response to requests from Nanjing Merry Trading Co., Ltd. (“Nanjing Merry”), Leping Lotai Foods Co., Ltd. (“Leping Lotai”), Weishan Hongrun Aquatic Food Co., Ltd. (“Weishan Hongrun”), and Shanghai Strong International Trading Co., Ltd. (“Shanghai Strong”). The period of review (“POR”) is September 1, 2005, through February 28, 2006. Because the sale(s) made by Weishan Hongrun were not bona fide, and neither Leping Lotai, Nanjing Merry, nor Shanghai Strong have demonstrated that they qualify for a separate rate, we have preliminarily determined that each of these new shipper reviews should be rescinded. Interested parties are invited to comment on this preliminary notice of intent to rescind.

EFFECTIVE DATE: March 7, 2007.

FOR FURTHER INFORMATION CONTACT: Scot Fullerton or P. Lee Smith, AD/CVD Operations, Office 9, Import Administration, International Trade Administration, U.S. Department of Commerce, 14th Street and Constitution Avenue, NW, Washington, DC 20230; telephone: (202) 482-1386 or (202) 482-1655, respectively.

SUPPLEMENTARY INFORMATION:

Background

Pursuant to section 751(a)(2)(B) of the Tariff Act of 1930, as amended (“the Act”), and in accordance with 19 CFR 351.214(c), the Department received timely requests for new shipper reviews from Shanghai Strong on March 24, 2006, from Nanjing Merry and Leping Lotai on March 27, 2006, and from Weishan Hongrun on March 31, 2006. See Notice of Amendment to Final Determination of Sales at Less than Fair Value and Antidumping Duty Order: Freshwater Crawfish Tail Meat from the People's Republic of China, 62 FR 48218 (September 15, 1997).

The Department determined that the requests made by Nanjing Merry, Leping Lotai, and Weishan Hongrun met the requirements stated in section 351.214 of the Department's regulations. On May 5, 2006, the Department published its initiation of these new shipper reviews for the period September 1, 2005, through February 28, 2006. See Freshwater Crawfish Tail Meat From the People's Republic of China: Initiation of Antidumping Duty New Shipper Reviews, 71 FR 26453 (May 5, 2006) (“May 5, 2006, Initiation Notice”). On May 1, 2006, pursuant to 19 CFR 351.302(b), the Department extended the time limit to initiate the new shipper review of Shanghai Strong by 30 days in order to provide the respondent with an opportunity to explain certain information in the entry documentation. On May 31, 2006, the Department determined that Shanghai Strong's request also met the requirements stated in section 351.214 of the Department's regulations, and published its initiation of this new shipper review. See Freshwater Crawfish Tail Meat From the People's Republic of China: Initiation of Antidumping Duty New Shipper Review, 71 FR 30866 (May 31, 2006) (“May 31, 2006, Initiation Notice”).

The Department received section A questionnaire responses from Leping Lotai on June 3, 2006; Weishan Hongrun on June 5, 2006; Nanjing Merry on June 6, 2006; and from Shanghai Strong on June 15, 2006. The Department issued a supplemental section A questionnaire to Leping Lotai on June 16, 2006, and received a response on June 28, 2006. The Department also received section C and D questionnaire responses from Weishan Hongrun on June 22, 2006; from Leping Lotai and Nanjing Merry on June 27, 2006; and from Shanghai Strong on June 30, 2006.

On July 7, 2006, the Department issued a supplemental section A questionnaire to Shanghai Strong, and received a response from the company on July 20, 2006. On July 26, 2006, the Department issued a supplemental section A, C, and D questionnaire to Nanjing Merry, and received the company's response on August 22, 2006. On August 1, 2006, the Department issued a supplemental section C and D questionnaire to Shanghai Strong and Leping Lotai, to which both companies submitted a response on August 10, 2006. Additionally, on August 4, 2006, the Department issued a supplemental section A, C and D questionnaire to Weishan Hongrun, to which both companies submitted responses on September 1, 2006.

On September 25, 2006, Nanjing Merry submitted a letter in which it stated it would no longer participate in the new shipper review and would not permit the verification of the information it had already placed on the record of its new shipper review. On October 2, 2006, Shanghai Strong and Leping Lotai also submitted letters indicating that neither company would permit the verification of the information each placed on the record of its new shipper review.

On October 11, 2006, the Department extended the due date for the preliminary results of the Leping Lotai, Nanjing Merry, and Weishan Hongrun new shipper reviews by 90 days from the original October 25, 2006, deadline. In addition, the Department extended the deadline for the preliminary results of the Shanghai Strong new shipper review by 65 days from the original November 19, 2006, deadline. Therefore, the preliminary results for all four of the above-referenced new shipper reviews were extended until January 23, 2007. See Notice of Extension of the Preliminary Results of New Shipper Antidumping Duty Reviews: Freshwater Crawfish Tail Meat from the People's Republic of China, 71 FR 59738 (October 11, 2006). Moreover, On October 11, 2006, the Department issued a second supplemental questionnaire to Weishan Hongrun, to which the Department received a response on November 1, 2006.

On November 3, 2006, the Department issued a third supplemental questionnaire to Weishan Hongrun. On November 22, 2006, the Department rejected Weishan Hongrun's November 21, 2006, response based on certain filing inadequacies, but provided the company with an opportunity to correct the submission by November 27, 2006. On November 27, 2006, Weishan Hongrun submitted its response to question number 17 of the Department's November 3, 2006, supplemental questionnaire, and on November 28, 2006, Weishan Hongrun submitted its response to the remaining questions. On November 28, 2006, the Department issued its fourth supplemental questionnaire to Weishan Hongrun requesting, in part, that the company submit information which had been previously requested by the Department. On December 8, 2006, Weishan Hongrun submitted its response to the Department's November 28, 2006, supplemental questionnaire.

On December 15, 2006, the Department further extended the deadline for the preliminary results of the Leping Lotai, Nanjing Merry, Weishan Hongrun and Shanghai Strong new shipper reviews by an additional 30 days from the January 23, 2007, deadline until February 22, 2007. See Notice of Extension of the Preliminary Results of New Shipper Antidumping Duty Reviews: Freshwater Crawfish Tail Meat from the People's Republic of China, 71 FR 75502 (December 15, 2006).

Scope of the Antidumping Duty Order

The product covered by this order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by the U.S. Customs Service in 2000, and HTSUS items 0306.19.00.10 and 0306.29.00, which are reserved for fish and crustaceans in general. The HTSUS subheadings are provided for convenience and Customs purposes only. The written description of the scope of this order is dispositive.

Preliminary Intent to Rescind

Concurrent with this notice, we are issuing our memoranda detailing our analysis of the bona fides of Weishan Hongrun's U.S. sale and our preliminary decision to rescind based on the totality of the circumstances of the sale. See Memorandum to James C. Doyle, Director, AD/CVD Operations, Office 9, Import Administration, through Christopher D. Riker, Program Manager, AD/CVD Operations, Office 9, from Scot Fullerton, Senior Case Analyst, AD/CVD Operations, Office 9, regarding 2005/2006 Antidumping Duty New Shipper Review of the Antidumping Duty Order on Freshwater Crawfish Tail Meat from the People's Republic of China: Bona Fide Analysis of the Sale(s) Reported by Weishan Hongrun Aquatic Food Co., Ltd. (February 22, 2007) (“Weishan Hongrun Memo”). Although much of the information relied upon by the Department to analyze the issues is business proprietary, the Department based its determination that the new shipper sale made by Weishan Hongrun was not bona fide on the following: 1) the quantity and price of Hongrun's single sale; 2) the unreported business relationships/potential affiliations between Hongrun and other crawfish tail meat producers; 3) Hongrun's failure to establish the source of the initial investment capital used to form Hongrun; and finally, 4) the lack or regular commercial interest in the subject merchandise, and the circumstances surrounding the resale of the single POR sale.

Because the Department has found Weishan Hongrun's sale to be non-bona fide, it is not subject to review. See Weishan Hongrun Memo. Weishan Hongrun only made a single, non-bona fide sale during the POR. Therefore, the Department intends to rescind its new shipper review because there are no reviewable sales during the POR. See e.g., Tianjin Tiancheng Pharmaceutical Co., Ltd. v. United States, 366 F. Supp. 2d 1246, 1249 (CIT 2005).

Additionally, as referenced above, Leping Lotai, Nanjing Merry, and Shanghai Strong all submitted letters to the Department indicating they would not permit verification of the information placed on the record of the reviews. By not permitting the Department to verify the accuracy of the information each submitted to the Department, Leping Lotai, Nanjing Merry, and Shanghai Strong each failed to establish that they qualify for a separate rate. See Memorandum to James C. Doyle, Director, AD/CVD Operations, Office 9, from Scot T. Fullerton and Prentiss Lee Smith, Case Analysts, through Christopher D. Riker, Program Manager, regarding Freshwater Crawfish Tail Meat from The People's Republic of China: Intent to Rescind the New Shipper Review of Leping Lotai Foods Co. (February 22, 2007); Memorandum to James C. Doyle, Director, AD/CVD Operations, Office 9, from Scot T. Fullerton and Prentiss Lee Smith, Case Analysts, through Christopher D. Riker, Program Manager, regarding Freshwater Crawfish Tail Meat from The People's Republic of China: Intent to Rescind the New Shipper Review of Nanjing Merry Trading Co., Ltd. (February 22, 2007); Memorandum to James C. Doyle, Director, AD/CVD Operations, Office 9, from Scot T. Fullerton and Prentiss Lee Smith, Case Analysts, through Christopher D. Riker, Program Manager, regarding Freshwater Crawfish Tail Meat from The People's Republic of China: Intent to Rescind the New Shipper Review of Shanghai Strong International Trading Co., Ltd. (February 22, 2007).

To establish whether a company operating in a non market economy (“NME”) is sufficiently independent from the Government to be eligible for a separate rate, the Department analyzes each exporting entity under the test established in the Final Determination of Sales at Less Than Fair Value: Sparklers from the People's Republic of China, 56 FR 20588 (May 6, 1991) (“Sparklers”), as amplified by the Final Determination of Sales at Less Than Fair Value: Silicon Carbide from the People's Republic of China, 59 FR 22585 (May 2, 1994). Under the separate-rates criteria, the Department assigns separate rates in NME cases only if the respondent can demonstrate the absence of both de jure and de facto governmental control over export activities.

By failing to allow the Department to verify the accuracy of their submissions, Leping Lotai, Nanjing Merry, and Shanghai Strong, have not demonstrated they are free of government control and are therefore not eligible to receive a separate rate. In the Notices of Initiation, the Department stated that an exporter unable to demonstrate the company's eligibility for a separate rate does not meet the requirements of 19 CFR 351.214(b)(2)(iii) and its new shipper review will be rescinded. See May 5, 2006, Initiation Notice at 26454; see also May 31, 2006, Initiation Notice at 30866. Therefore, the Department is preliminarily rescinding the new shipper reviews of Leping Lotai, Nanjing Merry, and Shanghai Strong. See, e.g., Notice of Preliminary Results of Antidumping Duty New Shipper Review and Rescission of New Shipper Reviews: Freshwater Crawfish Tail Meat from the People's Republic of China, 69 FR 53669 (September 2, 2004); see also Brake Rotors From the People's Republic of China: Rescission of Second New Shipper Review and Final Results and Partial Rescission of First Antidumping Duty Administrative Review, 64 FR 61581 (November 12, 1999).

Schedule for Final Results of Review

Unless otherwise notified by the Department, interested parties may submit case briefs within 30 days of the date of publication of this notice in accordance with section 351.309(c)(ii) of the Department's regulations. As part of the case brief, parties are encouraged to provide a summary of the arguments not to exceed five pages and a table of statutes, regulations, and cases cited. Rebuttal briefs, which must be limited to issues raised in the case briefs, must be filed within five days after the case brief is filed.

Any interested party may request a hearing within 30 days of publication of this notice in accordance with section 351.310(c) of the Department's regulations. Any hearing would normally be held 37 days after the publication of this notice, or the first workday thereafter, at the U.S. Department of Commerce, 14th Street and Constitution Avenue N.W., Washington, DC 20230. Individuals who wish to request a hearing must submit a written request within 30 days of the publication of this notice in the Federal Register to the Assistant Secretary for Import Administration, U.S. Department of Commerce, Room 1870, 14th Street and Constitution Avenue, NW., Washington, DC 20230. Requests for a public hearing should contain: (1) the party's name, address, and telephone number; (2) the number of participants; and, (3) to the extent practicable, an identification of the arguments to be raised at the hearing. If a hearing is held, an interested party must limit its presentation only to arguments raised in its briefs. Parties should confirm by telephone the time, date, and place of the hearing 48 hours before the scheduled time.

The Department will issue the final results of this new shipper review, which will include the results of its analysis of issues raised in the briefs, within 90 days from the date of the preliminary results, unless the time limit is extended.

Notification

This notice serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

These new shipper reviews and this notice are published in accordance with sections 751(a)(2)(B) and 777(i)(1) of the Act.

Dated: February 22, 2007.
David M. Spooner,
Assistant Secretary for Import Administration.

[FR Doc. E7-4068 Filed 3-6-07; 8:45 am]

BILLING CODE 3510-DS-S